ENVIRONMENTAL PROTECTION AGENCY

40 CFR Part 52

[EPA-R01-OAR-2024-0051; FRL-12403-02-R1]

Air Plan Approval; Connecticut; Approval of State Implementation Plan Requirements for the 2008 Ozone Standard

AGENCY: Environmental Protection Agency (EPA).

ACTION: Final rule.

SUMMARY: The Environmental Protection Agency (EPA) is approving State Implementation Plan (SIP) revisions submitted by the State of Connecticut. The SIP revisions are for the Connecticut portion of the New York-Northern New Jersey-Long Island, NY-NJ-CT Serious ozone nonattainment area for the 2008 ozone standard. The revisions pertain to requirements relating to reasonable further progress (RFP) plans, an enhanced vehicle emissions inspection and maintenance (I/M) program, transportation conformity, and a clean fuels for motor vehicles program. This action is being taken under the Clean Air Act.

DATES: This rule is effective on May 1, 2025.

ADDRESSES: EPA has established a docket for this action under Docket Identification No. EPA-R01-OAR-2024-0051. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: Bob McConnell, Environmental Engineer, Air Quality Branch, (Mail Code 5-MD), U.S. Environmental Protection Agency, Region 1, 5 Post Office Square, Suite 100, Boston, Massachusetts 02109-3912; (617) 918-1046; mcconnell.robert@epa.gov.

SUPPLEMENTARY INFORMATION: Throughout this document whenever “we,” “us,” or “our” is used, we mean EPA.

Table of Contents

I. Background and Purpose

II. Final Action

III. Statutory and Executive Order Reviews

I. Background and Purpose

On June 23, 2022, Connecticut submitted SIP revisions required due to the State's classification as a Serious nonattainment area for the 2008 ozone standard that included an RFP plan with motor vehicle emissions budgets (“budgets”), an enhanced vehicle emissions inspection and maintenance (I/M) program certification, and a certification that the State's previously adopted clean fuels program continues to meet CAA requirements. The State supplemented this submittal with additional information on November 17, 2022, and December 12, 2023. On November 21, 2024, (89 FR 92079), EPA published a Notice of Proposed Rulemaking (NPRM) for the State of Connecticut. The NPRM proposed approval of Connecticut's RFP plan for the 2018 to 2020 timeframe, motor vehicle emissions budgets for 2020, certification of its enhanced I/M program, and clean fuels program certification, for the reasons articulated within our November 21, 2024 proposed rule. The specific requirements for these SIP elements and our rationale for proposing to approve them are explained in the NPRM and will not be restated here. No public comments were received on the NPRM.

II. Final Action

EPA is approving plan submittals pertaining to requirements relating to reasonable further progress plans, an enhanced vehicle emissions inspection and maintenance program, transportation conformity, and a clean fuels for motor vehicles program, as revisions to the Connecticut SIP.

III. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a significant regulatory action subject to review by the Office of Management and Budget under Executive Orders 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where EPA or an Indian tribe has demonstrated that a Tribe has jurisdiction. In those areas of Indian country, the rule does not have Tribal implications and will not impose substantial direct costs on Tribal governments or preempt Tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 2, 2025. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Nitrogen dioxide, Ozone, Volatile organic compounds.

Dated: March 13, 2025.
Karen McGuire,
Acting Regional Administrator, EPA Region 1.

For the reasons stated in the preamble, the Environmental Protection Agency amends part 52 of chapter I, title 40 of the Code of Federal Regulations to read as follows:

PART 52—APPROVAL AND PROMULGATION OF IMPLEMENTATION PLANS

1. The authority citation for part 52 continues to read as follows:

Authority: 42 U.S.C. 7401 et seq.

Subpart H—Connecticut

2. Section 52.370 is amended by adding paragraph (c)(135) to read as follows:

§ 52.370 Identification of plan.

* * * * *

(c) * * *

(135) Revisions to the State Implementation Plan submitted by the Connecticut Department of Energy and Environmental Protection on June 23, 2022, November 17, 2022, and December 12, 2023.

(i) [Reserved]

(ii) Additional materials.

(A) Section 6, Motor Vehicle Inspection and Maintenance (I/M), section 7, Transportation Conformity, Section 8, Clean Fuels/Substitute Program, and section 9, Reasonable Further Progress, of the document, “Ozone Attainment Demonstration for Areas Classified Serious Nonattainment for the 2008 Ozone Standards; Technical Support Document; Connecticut Department of Energy and Environmental Protection; June, 2022”, submitted to EPA on June 23, 2022.

(B) The Connecticut DEEP document, “Inspection and Maintenance Performance Standard Modeling Summary”, submitted to EPA on November 17, 2022.

(C) The Connecticut DEEP document “Clarification of Motor Vehicle Emission Budgets (MVEBs) for the State Implementation Plan Revisions Submitted on June 23, 2022”, submitted to EPA on December 12, 2023.

3. Section 52.377 is amended by adding paragraph (w) to read as follows:

§ 52.377 Control strategy: Ozone.

* * * * *

(w) Approval. Revisions to the State Implementation Plan submitted by the Connecticut Department of Energy and Environmental Protection on June 23, 2022, November 17, 2022, and December 12, 2022, to meet, in part, requirements of the 2008 ozone NAAQS. These revisions satisfy the rate of progress requirement of section 182(b) through 2020 for the Connecticut portion of the New York-Northern New Jersey-Long Island, NY-NJ-CT area. The revisions also establish motor vehicle emissions budgets for 2020 of 17.6 tons per day of VOC and 23.3 tons per day of NOX to be used in transportation conformity in the Connecticut portion of the New York-Northern New Jersey-Long Island, NY-NJ-CT moderate ozone nonattainment area. Additionally, we are concurring with the State's determination that its I/M program meets the performance standard and requirements for Enhanced I/M, and determining that Connecticut meets the clean-fuel vehicle program of section 182(c)(4) of the Clean Air Act.

[FR Doc. 2025-05378 Filed 3-31-25; 8:45 am]

BILLING CODE 6560-50-P